FEDERAL MINE SAFETY AND HEALTH REVIEW COMMISSION

Sunshine Act Meetings

TIME AND DATE: 1 p.m., Thursday, July 31, 2025.

PLACE: The Richard V. Backley Hearing Room, Room 511, 1331 Pennsylvania Avenue NW, Suite 504 North, Washington, DC 20004 (enter from F Street entrance).

STATUS: Open.

MATTERS TO BE CONSIDERED: The Commission will consider and act upon the following in open session: Secretary of Labor v. GMS Mine Repair & Maintenance, Inc., Docket No. VA 2023-0021 (Issues include: (1) Whether the Secretary is collaterally estopped from enforcing a safeguard notice; (2) Whether the Judge erred in concluding that the operator violated a safeguard notice).

Any person attending this meeting who requires special accessibility features and/or auxiliary aids, such as sign language interpreters, must inform the Commission in advance of those needs. Subject to 29 CFR 2706.150(a)(3) and 2706.160(d).

CONTACT PERSON FOR MORE INFORMATION: Emogene Johnson (202) 434-9935/(202) 708-9300 for TDD Relay/1-800-877-8339 for toll free. Phone Number for Listening to Meeting: 1 (866) 236-7472. Passcode: 678-100.

(Authority: 5 U.S.C. 552b.)

Dated: July 3, 2025.
Rory P. Smith,
Attorney-Advisor.

[FR Doc. 2025-12675 Filed 7-3-25; 4:15 pm]

BILLING CODE 6735-01-P